DEPARTMENT OF DEFENSE

Office of the Secretary

Defense Science Board; Notice of Federal Advisory Committee Meeting

AGENCY: Under Secretary of Defense for Research and Engineering, Department of Defense.

ACTION: Notice of Federal Advisory Committee meeting.

SUMMARY: The Department of Defense (DoD) is publishing this notice to announce that the following Federal Advisory Committee meeting of the Defense Science Board (DSB) will take place.

DATES: July 29, 2019 to August 2, 2019 from 8:30 a.m. to 5 p.m., August 5, 2019 to August 8, 2019 from 9 a.m. to 12 p.m., and August 9, 2019 from 9 a.m. to 12 p.m.

ADDRESSES: The address of the closed meeting is the Arnold and Mabel Beckman Center, 100 Academy Way, Irvine, CA 92617.

FOR FURTHER INFORMATION CONTACT: Mr. Kevin Doxey, (703) 571-0081 (Voice), (703) 697-1860 (Facsimile), kevin.a.doxey.civ@mail.mil (Email). Mailing address is Defense Science Board, 3140 Defense Pentagon, Room 3B888A, Washington, DC 20301-3140. Website: http://www.acq.osd.mil/dsb/. The most up-to-date changes to the meeting agenda can be found on the website.

SUPPLEMENTARY INFORMATION: Due to circumstances beyond the control of the Department of Defense (DoD) and the Designated Federal Officer, the Defense Science Board was unable to provide public notification required by 41 CFR 102-3.150(a) concerning the July 29, 2019 through August 9, 2019 meeting of the Defense Science Board. Accordingly, the Advisory Committee Management Officer for the Department of Defense, pursuant to 41 CFR 102-3.150(b), waives the 15-calendar day notification requirement.

This meeting is being held under the provisions of the Federal Advisory Committee Act (FACA) (Title 5 United States Code (U.S.C.), Appendix), the Government in the Sunshine Act (Title 5 U.S.C., Section 552b), and Title 41 Code of Federal Regulations (CFR), Sections 102-3.140 and 102-3.150.

Purpose of the Meeting: The mission of the DSB is to provide independent advice and recommendations on matters relating to the DoD's scientific and technical enterprise. The objective of the meeting is to obtain, review, and evaluate classified information related to the DSB's mission. DSB membership will meet to discuss the DSB 2019 Summer Study on the Future of U.S Military Superiority (“the DSB Summer Study”).

Agenda: The DSB Summer Study meeting will begin on Monday, July 29, 2019 at 8:30 a.m. with opening remarks from Mr. Kevin Doxey, DFO, Dr. Craig Fields, DSB Chairman, and Dr. Eric Evans, DSB Vice Chairman. Following opening remarks, DSB members will hold a classified discussion to address ways in which the DoD can secure U.S. interests, manage escalation, and deter and counter adversary aggression. Following break, DSB members will meet in small groups to discuss classified ways in which the DoD can secure U.S. interests, manage escalation, and deter and counter adversary aggression, given the renewed great power competition. The meeting will adjourn at 5 p.m. On the second day of the meeting, Tuesday, July 30, 2019, the day will begin at 8:30 a.m. with classified small group discussions to address ways in which the DoD can secure U.S. interests, manage escalation, and deter and counter adversary aggression. Following break, DSB members will continue their small group classified discussion on the same topics. The meeting will adjourn at 5 p.m. On the third day of the meeting, Wednesday, July 31, 2019, the day will begin at 8:30 a.m. with classified small group discussions to address ways in which the DoD can secure U.S. interests, manage escalation, and deter and counter adversary aggression. Following break, DSB members will continue their small group classified discussion on the same topics. The meeting will adjourn at 5 p.m. On the fourth day of the meeting, Thursday, August 1, 2019, the day will begin at 8:30 a.m. with classified small group discussions to address ways in which the DoD can secure U.S. interests, manage escalation, and deter and counter adversary aggression. Following break, DSB members will continue their small group classified discussion on the same topics. Next, the DSB members will hold a classified plenary discussion to address ways in which the DoD can secure U.S. interests, manage escalation, and deter and counter adversary aggression. The meeting will adjourn at 5 p.m. On the fifth day of the meeting, Friday, August 2, 2019, the day will begin at 8:30 a.m. with classified small group discussions to address ways in which the DoD can secure U.S. interests, manage escalation, and deter and counter adversary aggression. Following break, DSB members will continue their small group classified discussion on the same topics. The meeting will adjourn at 5 p.m. On the sixth day of the meeting, Monday, August 5, 2019, the day will begin at 8:30 a.m. with classified small group discussions to address ways in which the DoD can secure U.S. interests, manage escalation, and deter and counter adversary aggression. Following break, DSB members will continue their small group classified discussion on the same topics. The meeting will adjourn at 5 p.m. On the seventh day of the meeting, Tuesday, August 6, 2019, the day will begin at 8:30 a.m. with classified small group discussions to address ways in which the DoD can secure U.S. interests, manage escalation, and deter and counter adversary aggression. Following break, DSB members will continue their small group classified discussion on the same topics. The meeting will adjourn at 5 p.m. On the eighth day of the meeting, Wednesday, August 7, 2019, the day will begin at 8:30 a.m. with classified small group discussions to address ways in which the DoD can secure U.S. interests, manage escalation, and deter and counter adversary aggression. Following break, DSB members will continue their small group classified discussion on the same topics. Next, the DSB members will hold a classified plenary discussion to address ways in which the DoD can secure U.S. interests, manage escalation, and deter and counter adversary aggression. The meeting will adjourn at 5:00 p.m. On the ninth day of the meeting, Thursday, August 8, 2019, the day will begin at 8:30 a.m. with classified small group discussions to address ways in which the DoD can secure U.S. interests, manage escalation, and deter and counter adversary aggression. Next, the DSB members will deliberate and vote on the Summer Study's final classified findings and recommendations. Following the vote, DSB members will continue their small group classified discussion to address ways in which the DoD can secure U.S. interests, manage escalation, and deter and counter adversary aggression. The meeting will adjourn at 5 p.m. On the tenth day of the meeting, Friday, August 9, 2019, the day will begin at 9 a.m. with a classified briefing with invited DoD leaders to provide advice and recommendations on ways in which the DoD can secure U.S. interests, manage escalation, and deter and counter adversary aggression. The meeting will adjourn at 12 p.m.

Meeting Accessibility: In accordance with Section 10(d) of the FACA and 41 CFR 102-3.155, the DoD has determined that the DSB meeting will be closed to the public. Specifically, the Under Secretary of Defense (Research and Engineering), in consultation with the DoD Office of General Counsel, has determined in writing that the meeting will be closed to the public because it will consider matters covered by 5 U.S.C. 552b(c)(1). The determination is based on the consideration that it is expected that discussions throughout will involve classified matters of national security concern. Such classified material is so intertwined with the unclassified material that it cannot reasonably be segregated into separate discussions without defeating the effectiveness and meaning of the overall meetings. To permit the meeting to be open to the public would preclude discussion of such matters and would greatly diminish the ultimate utility of the DSB's findings and recommendations to the Secretary of Defense and to the Under Secretary of Defense (Research and Engineering).

Written Statements: In accordance with Section 10(a)(3) of the FACA and 41 CFR 102-3.105(j) and 102-3.140, interested persons may submit a written statement for consideration by the DSB at any time regarding its mission or in response to the stated agenda of a planned meeting. Individuals submitting a written statement must submit their statement to the DSB DFO provided in the FOR FURTHER INFORMATION CONTACT section at any point; however, if a written statement is not received at least three calendar days prior to the meeting, which is the subject of this notice, then it may not be provided to or considered by the DSB until a later date.

Dated: July 17, 2019.
Aaron T. Siegel,
Alternate OSD Federal Register Liaison Officer, Department of Defense.

[FR Doc. 2019-15542 Filed 7-19-19; 8:45 am]

BILLING CODE 5001-06-P